NATIONAL FOUNDATION FOR THE ARTS AND THE HUMANITIES

Submission for OMB Review, Comment Request, Proposed Collection: State Library Administrative Agencies Survey, FY 2014-2016

AGENCY: Institute of Museum and Library Services, National Foundation for the Arts And the Humanities.

ACTION: Submission for OMB Review, Comment Request.

SUMMARY: The Institute of Museum and Library Services (IMLS), as part of its continuing effort to reduce paperwork and respondent burden, conducts a pre-clearance consultation program to provide the general public and federal agencies with an opportunity to comment on proposed and/or continuing collections of information in accordance with the Paperwork Reduction Act (44 U.S.C. 3501 et seq.). This pre-clearance consultation program helps to ensure that requested data can be provided in the desired format, reporting burden (time and financial resources) is minimized, collection instruments are clearly understood, and the impact of collection requirements on respondents can be properly assessed.

A copy of the proposed information collection request can be obtained by contacting the individual listed below in the ADDRESSES section of this notice.

DATES: Written comments must be submitted to the office listed in the Contact section below on or before September 23, 2013.

OMB is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility and clarity of the information to be collected; and

• Minimize the burden of the collection of information on those who are to respond, including the use of appropriate automated electronic, mechanical, or other technological collection techniques or other forms of information technology, e.g. permitting electronic submissions of responses.

ADDRESSES: Deanne Swan, Senior Statistician, Office of Planning, Research, and Evaluation, Institute of Museum and Library Services, 1800 M St., NW., 9th Floor, Washington, DC 20036. Dr. Swan can be reached by Telephone: 202-653-4769, Fax: 202-653-4601, or by email at dswan@imls.gov, or by teletype (TTY/TDD) for persons with hearing difficulty at 202-653-4614.

SUPPLEMENTARY INFORMATION:

The Institute of Museum and Library Services is the primary source of federal support for the Nation's 123,000 libraries and 17,500 museums. The Institute's mission is to create strong libraries and museums that connect people to information and ideas. The Institute works at the national level and in coordination with state and local organizations to sustain heritage, culture, and knowledge; enhance learning and innovation; and support professional development. IMLS is responsible for identifying national needs for, and trends in, museum, library, and information services; measuring and reporting on the impact and effectiveness of museum, library, and information services throughout the United States, including programs conducted with funds made available by IMLSs; identifying, and disseminating information on, the best practices of such programs; and developing plans to improve museum, library, and information services of the United States and strengthen national, State, local, regional, and international communications and cooperative networks. (20 U.S.C. 9108).

Abstract: The State Library Administrative Agencies Survey has been conducted by the Institute of Museum and Library Services under the clearance number 3137-0072, which expires 10/31/2013. State library administrative agencies (“SLAAs”) are the official agencies of each State charged by State law with the extension and development of public library services throughout the State. (20 U.S.C. 9122.) The purpose of this survey is to provide state and federal policymakers with information about SLAAs, including their governance, allied operations, developmental services to libraries and library systems, support of electronic information networks and resources, number and types of outlets, and direct services to the public.

Current Actions: This notice proposes clearance of the State Library Agencies Survey. The 60-day notice for the State Library Administrative Agencies Survey, FY 2014, was published in the Federal Register on May 23, 2013 (78 FR 30939). No comments were received.

Agency: Institute of Museum and Library Services.

Title: State Library Administrative Agencies Survey, FY 2014.

OMB Number: 3137-0072.

Agency Number: 3137.

Affected Public: Federal, State and local governments, State library administrative agencies, libraries, general public.

Number of Respondents: 51.

Frequency: Biennially.

Burden hours per respondent: 24.

Total burden hours: 1,248.

Total Annual Costs: $34,307.

Contact: Comments should be sent to Office of Information and Regulatory Affairs, Attn.: OMB Desk Officer for Education, Office of Management and Budget, Room 10235, Washington, DC 20503, (202) 395-7316.

Dated: August 20, 2013.
Kim A. Miller,
Management Analyst.

[FR Doc. 2013-20663 Filed 8-22-13; 8:45 am]

BILLING CODE 7036-01-P